ENVIRONMENTAL PROTECTION AGENCY

[FRL-8908-8]

Approval of Proposed Interpollutant Trading Request; Pennsylvania; Control of Fine Particulate Matter: Notice of Availability

AGENCY: Environmental Protection Agency (EPA).

ACTION: Notice of Availability.

SUMMARY: This action announces the availability of EPA's approval of a request submitted by the Commonwealth of Pennsylvania to approve the use of sulfur dioxide (SO2) emission reduction credits to offset increased emissions of fine particulate matter (PM2.5) in the York County PM2.5 nonattainment area. EPA is approving this request in accordance with the Clean Air Act (CAA).

FOR FURTHER INFORMATION CONTACT: Gerallyn Duke, Air Permits Branch (3AP11), Air Protection Division, U.S. Environmental Protection Agency, Region III, 1650 Arch Street, Philadelphia, Pennsylvania 19103; telephone number: (215) 814-2084; e-mail address: duke.gerallyn@epa.gov.

SUPPLEMENTARY INFORMATION:

I. How Can I Get Copies of This Document and Other Related Information?

All documents for this action are available either electronically through http://www.epa.gov/reg3artd/index.htm or in hard copy for public inspection during normal business hours at the Air Protection Division, U.S. Environmental Protection Agency, Region III, 1650 Arch Street, Philadelphia, Pennsylvania 19103.

II. Background

Under section 173 of the CAA, all major sources and major modifications at existing major sources within a nonattainment area must obtain emissions reductions to offset any emissions increases resulting from the project in an amount that is at least equal to the emissions increase, and that is consistent with reasonable further progress toward attainment. A final rule published on May 16, 2008, in the Federal Register entitled “Implementation of the New Source Review (NSR) Program for PM2.5” (72 FR 28349) established, among other things, the offset ratios, i.e., the amount of emissions reductions required to offset the emissions increase, for direct emissions of PM2.5 as well as its precursors. The rule also allows limited interpollutant (precursor) trading for the purpose of PM2.5 offsets based on pollutant-specific trading ratios if such offsets are established as part of the State Implementation Plan (SIP) or if they comply with an interprecursor trading hierarchy and ratio approved by the Administrator. EPA previously conducted a technical assessment to develop preferred interpollutant trading ratios to be used for the purposes of PM2.5 offsets. The preferred ratios were published in the preamble to the May 16, 2008 rule and set a 40:1 ratio of SO2 reductions to offset PM2.5 emission increases. The modeling used to derive the preferred ratio is described in a technical memo to the docket for the May 16, 2008 final rule and is included in the docket for this action.

States, such as Pennsylvania, that will need to update their State Implementation Plans (SIPs) to implement NSR for PM2.5 in nonattainment areas, must implement a transitional NSR permitting program for PM2.5 pursuant to appendix S to 40 CFR part 51. Appendix S at Section IV.G.5 allows the offset requirements for direct PM2.5 emissions to be satisfied by reductions of SO2, a PM2.5 precursor, if such offsets are approved by the Administrator.

On January 20, 2009, the Pennsylvania Department of Environmental Protection (PADEP) submitted a request to EPA to allow interpollutant trading for offsets required for the construction and operation of the Conectiv Mid-Merit LLC's proposed natural gas-fired plant in Peach Bottom Township, Pennsylvania. This request was submitted pursuant to Pennsylvania's transitional NSR program under Appendix S for NSR permitting in PM2.5 nonattainment areas. The Commonwealth specifically requested approval to use EPA's preferred trading ratio of 40 tons of SO2 reductions to offset every ton of PM2.5 emission increases. The new facility is to be located in the York County nonattainment area for PM2.5.

On February 23, 2009, EPA published in The York Dispatch and York Daily Record a notice of intent to approve PADEP's Proposed Interpollutant Trading Request for York County, Pennsylvania. The notices of intent to approve announced EPA's pending approval of the PADEP's request to allow the use of SO2 emission reduction credits to offset increased emissions of PM2.5, at a ratio of 40 tons SO2 to one ton of PM2.5 emissions, in the York County PM2.5 nonattainment area. In these notices, EPA announced that comments would be received for 30 days. No comments were received in response to the notice. EPA approved PADEP's request to allow precursor trading for the purpose of PM2.5 offsets on April 14, 2009.

III. Judicial Review

Under section 307(b)(1) of the Clean Air Act, petitions for judicial review of this action must be filed in the United States Court of Appeals for the appropriate circuit by July 20, 2009. Filing a petition for reconsideration by the Administrator of this approval does not affect the finality of this action for the purposes of judicial review nor does it extend the time within which a petition for judicial review may be filed, and shall not postpone the effectiveness of such action. This action may not be challenged later in proceedings to enforce its requirements. (See section 307(b)(2).)

Dated: May 8, 2009.
James W. Newsom,
Acting Regional Administrator, Region III.

[FR Doc. E9-11911 Filed 5-20-09; 8:45 am]

BILLING CODE 6560-50-P